DEPARTMENT OF HEALTH AND HUMAN SERVICES

National Institutes of Health

National Institute on Aging; Amended Notice of Meeting

Notice is hereby given of a change in the meeting of the National Institute on Aging Special Emphasis Panel, June 08, 2022, 10:00 a.m. to June 09, 2022, 06:00 p.m., National Institute on Aging, Gateway Building, 7201 Wisconsin Avenue, Bethesda, MD 20892, which was published in the Federal Register on May 02, 2022, 309841.

Dr. Roy wanted to correct the title of the meeting to “Place-based Health Inequalities in Mid-life”. The meeting is closed to the public.

Dated: May 5, 2022.
Miguelina Perez,
Program Analyst, Office of Federal Advisory Committee Policy.

[FR Doc. 2022-10059 Filed 5-10-22; 8:45 am]

BILLING CODE 4140-01-P